DEPARTMENT OF DEFENSE

Department of the Navy

[Docket ID: USN-2018-HQ-0013]

Privacy Act of 1974; System of Records; Correction

AGENCY: Department of the Navy, DoD.

ACTION: Notice of a modified system of records; correction.

SUMMARY: On August 28, 2018, the Department of Defense published a system of records notice that proposed to modify Data Warehouse Business Intelligence System (DWBIS), N05220-1. Subsequent to the publication of the notice, DoD discovered that the docket ID had published incorrectly. This notice corrects that error.

DATES: This correction is effective on September 14, 2018.

FOR FURTHER INFORMATION CONTACT: Patricia Toppings, 571-372-0485.

SUPPLEMENTARY INFORMATION:

Correction

On August 28, 2018 (83 FR 43857-43860), the Department of Defense published a system of records notice, FR Doc. 2018-18587, that proposed to modify Data Warehouse Business Intelligence System (DWBIS), N05220-1. Subsequent to the publication of the notice, DoD discovered that the docket ID had published incorrectly. The docket ID incorrectly published as “USN-2018-OS-0013.”

The docket ID is corrected to read as set forth in this notice.

Dated: September 11, 2018.
Aaron T. Siegel,
Alternate OSD Federal Register Liaison Officer, Department of Defense.

[FR Doc. 2018-20035 Filed 9-13-18; 8:45 am]

BILLING CODE 5001-06-P